ARCHITECTURAL AND TRANSPORTATION BARRIERS COMPLIANCE BOARD

Notice of Intent To Seek OMB Approval To Collect Information: On-Line Architectural Barriers Act (ABA) Complaint Form

AGENCY: Architectural and Transportation Barriers Compliance Board.

ACTION: Notice and request for comments.

SUMMARY: The Architectural and Transportation Barriers Compliance Board (Access Board) plans to request approval by the Office of Management and Budget (OMB) of a new information collection. As required by the Paperwork Reduction Act of 1995, we are providing opportunity for public comment on this action. After obtaining and considering public comment on this notice, and publishing a second notice requesting public comments for an additional 30 days, we plan to submit an information collection request package to OMB and request approval for three years.

DATES: Written comments on this notice must be received by February 19, 2013 to be assured of consideration. Comments received after that date will be considered to the extent practicable.

ADDRESSES: Address all comments concerning this notice to Lisa Fairhall, Deputy General Counsel, Access Board, 1331 F Street NW., Suite 1000, Washington, DC 20004.

FOR FURTHER INFORMATION CONTACT: Lisa Fairhall, Deputy General Counsel, Access Board, 1331 F Street NW., Suite 1000, Washington, DC 20004; telephone 202-272-0046; TTY 202-272-0082; or send email to fairhall@access-board.gov.

SUPPLEMENTARY INFORMATION:

Title of Collection: On-line Architectural Barriers Act (ABA) Complaint Form.

OMB Number: 3014-NEW.

Expiration Date of Approval: Not applicable.

Type of Request: New information collection.

Abstract: The Architectural and Transportation Barriers Compliance Board (Access Board) is seeking to make the process for submitting complaints under the Architectural Barriers Act (ABA) easier to use, more efficient, and timely. Complainants will be able to submit a complaint on-line using a standardized web-based complaint form which will prompt them to provide pertinent data necessary for the Access Board to investigate an ABA complaint. You may view the electronic data collection instrument on-line at http://cts.access-board.gov/formsiq/form.do?formset_id=2&ds=fdd&reload=true or obtain a copy of the instrument from Ms. Fairhall.

Use of the Information

The Access Board enforces the ABA by investigating complaints submitted by members of the public concerning particular buildings or facilities designed, altered, or built, by or on behalf of, or leased by, federal agencies, or financed by federal funds. Complaints can currently be submitted by email, mail or fax. The proposed on-line complaint form will allow complainants to submit ABA complaints electronically and receive notification that their complaint has been received, together with the complaint number for them to use when making inquiries about the status of their complaint. The Access Board is not requiring all complaints to be submitted using the on-line complaint form; the Access Board will continue to accept complaints submitted by email, mail, or fax.

Complainants must submit in writing the name and address of the building or facility and a brief description of each barrier to accessibility they have found at the building or facility. Additional information about the facility, such as when it was built or known sources of federal funding, is helpful but not necessary. Personal information, including the complainant's name, address, phone number and email address is optional and, where provided, is not disclosed without written permission from the complainant. The new on-line complaint form will prompt complainants to provide the information necessary for Access Board staff to initiate an investigation into a complaint. In addition, complainants will be able to attach electronic files containing pictures, drawings, or other relevant documents to the on-line complaint form when it is filed. The Access Board anticipates that use of the on-line complaint form will improve the completeness of the information included in complaints that are submitted for investigation, and this will expedite processing of complaints. In addition, complainants will be able to submit complaints 24 hours a day, seven days a week and receive electronic notification that their complaint has been received.

Estimate of Burden

Public reporting burden for this collection of information is estimated to average less than 30 minutes to complete the on-line complaint form, depending on the number of alleged barriers the complainant identifies.

There is no financial burden on the complainant. Use of the on-line form should relieve much of the burden that the current practice of mailing paper complaints puts on complainants. The Access Board is not requiring all complaints to be submitted using the on-line complaint. The Access Board will continue to accept complaints submitted by email, mail, or fax.

Respondents

Individuals. Approximately 200 individuals file accessibility complaints with the Access Board each year.

Estimated Number of Responses

Assuming all complainants choose to file complaints using the on-line complaint form, approximately 200 individuals would use the on-line complaint form annually.

Frequency of Responses

Complainants need only submit one on-line form for each building or facility at which they have found accessibility barriers, regardless of the number of barriers they found. Most complainants file only one ABA complaint. Complainants will need to submit a separate form for each additional building or facility at which they have found an accessibility barrier.

Estimated Total Annual Burden on Respondents

Approximately 30 minutes per respondent total time is all that will be needed to complete the on-line complaint form, for a total of 100 hours annually.

Comments

Comments are invited on (a) whether the proposed collection of information is necessary for the proper performance of the functions of the agency, including whether the information will have practical utility; (b) the accuracy of the estimated burden of the proposed collection of information; (c) ways to enhance the quality, utility, and clarity of the information from respondents; and (d) ways to minimize the burden of the collection of information on those who are to respond, including the use of automated collection techniques or other forms of information technology.

David M. Capozzi,
Executive Director.

[FR Doc. 2012-30375 Filed 12-17-12; 8:45 am]

BILLING CODE 8150-01-P